DEPARTMENT OF ENERGY

Federal Energy Regulatory Commission

[Project No. 539-015]

Lock 7 Hydro Partners, LLC; Notice of Application Accepted for Filing and Soliciting Motions To Intervene and Protests

Take notice that the following hydroelectric application has been filed with the Commission and is available for public inspection.

a. Type of Application: New Major License.

b. Project No.: 539-015.

c. Date Filed: April 30, 2020.

d. Applicant: Lock 7 Hydro Partners, LLC (Lock 7 Hydro).

e. Name of Project: Mother Ann Lee Hydroelectric Station Water Power Project (Mother Ann Lee Project).

f. Location: The project is located on the Kentucky River in Mercer, Jessamine, and Garrard Counties, Kentucky. The project does not occupy federal land.

g. Filed Pursuant to: Federal Power Act 16 U.S.C. 791(a)-825(r).

h. Applicant Contact: David Brown Kinloch, Lock 7 Hydro, 414 S Wenzel St., Louisville, Kentucky 40204; (502) 589-0975 or kyhydropower@gmail.com.

i. FERC Contact: Joshua Dub at (202) 502-8138 or joshua.dub@ferc.gov.

j. Deadline for filing motions to intervene and protests: 60 days from the issuance date of this notice.

The Commission strongly encourages electronic filing. Please file motions to intervene and protests using the Commission's eFiling system at http://www.ferc.gov/docs-filing/efiling.asp. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-539-015.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted but is not ready for environmental analysis at this time.

l. The Mother Ann Lee Project consists of the following existing facilities: (1) A reservoir with a surface area of 777 acres and a storage capacity of 5,828 acre-feet at elevation 513.12 NGVD29 (National Geodetic Vertical Datum of 1929); (2) a 250-foot-long, 15.3-foot-high, timber crib dam with a concrete cap and an abandoned 62-foot-long lock structure on the east side; (3) a 120-foot-long, 100-foot-wide forebay; (4) a 24-foot-tall, 84-foot-wide trashrack; (5) a 93-foot-long, 25-foot-wide, 16-foot-high powerhouse integral with the dam containing three generating units with a total installed capacity of 2,210 kilowatts; (6) a 30-foot-long, 15.3-foot-high concrete spillway section from the powerhouse to the west shore; (7) an 85-foot-long substation; and (8) a 34.5 kilovolt, 4,540-foot-long transmission line. The project is estimated to generate an average of 9,200 megawatt-hours annually.

m. In addition to publishing the full text of this document in the Federal Register, the Commission provides all interested individuals an opportunity to view and/or print the contents of this document via the internet through the Commission's Home Page (www.ferc.gov) using the “eLibrary” link. Enter the docket number excluding the last three digits in the docket number field to access the document. At this time, the Commission has suspended access to the Commission's Public Access Room due to the proclamation declaring a National Emergency concerning the Novel Coronavirus Disease (COVID-19), issued by the President on March 13, 2020. For assistance, contact FERC at FERCOnlineSupport@ferc.gov or call toll-free, (886) 208-3676 or TTY, (202) 502-8659.

You may also register online at http://www.ferc.gov/docs-filing/esubscription.asp to be notified via email of new filings and issuances related to this or other pending projects. For assistance, contact FERC Online Support.

n. Anyone may submit a protest or a motion to intervene in accordance with the requirements of Rules of Practice and Procedure, 18 CFR 385.210, .211, and .214. In determining the appropriate action to take, the Commission will consider all protests or other comments filed, but only those who file a motion to intervene in accordance with the Commission's Rules may become a party to the proceeding. Any protests or motions to intervene must be received on or before the specified comment date for the particular application.

All filings must: (1) Bear in all capital letters the title “PROTEST” or “MOTION TO INTERVENE;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

o. Procedural schedule and final amendments: The application will be processed according to the following preliminary schedule. Revisions to the schedule will be made as appropriate.

Issue Scoping Document 1 for comments—January 2020

Request Additional Information (if necessary)—February 2020

Issue Scoping Document 2 (if necessary)—February 2020

Issue notice of ready for environmental analysis—March 2021

p. Final amendments to the application must be filed with the Commission no later than 30 days from the issuance date of the notice of ready for environmental analysis.

Dated: December 22, 2020.
Kimberly D. Bose,
Secretary.

[FR Doc. 2020-28835 Filed 12-29-20; 8:45 am]

BILLING CODE 6717-01-P